DEPARTMENT OF HOMELAND SECURITY

Coast Guard

33 CFR Part 117

[USCG-2007-0186]

Drawbridge Operation Regulations; Chelsea River, Chelsea and East Boston, MA

AGENCY: Coast Guard, DHS.

ACTION: Notice of temporary deviation from regulations.

SUMMARY: The Commander, First Coast Guard District, has issued a temporary deviation from the regulation governing the operation of the Chelsea Street Bridge across the Chelsea River at mile 1.2, between Chelsea and East Boston, Massachusetts. Under this temporary deviation, a two-hour advance notice shall be required between 3:30 p.m. and 7 a.m., from January 2, 2008 through January 8, 2008. Vessels that can pass under the draw without a bridge opening may do so at all times. This deviation is necessary to facilitate scheduled bridge maintenance.

DATES: This deviation is effective from 3:30 p.m. on January 2, 2008 through 7 a.m. on January 8, 2008.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The Chelsea Street Bridge, across the Chelsea River at mile 1.2, between Chelsea and East Boston, Massachusetts, has a vertical clearance in the closed position of 9 feet at mean high water and 19 feet at mean low water. The existing drawbridge operation regulations are listed at 33 CFR § 117.593.

The owner of the bridge, the City of Boston, requested a temporary deviation to facilitate scheduled bridge maintenance, the installation of radio control system necessary to operate the bridge traffic signals and vehicular crash gates on the Chelsea side of the waterway.

The Chelsea Street Bridge facilitates deep draft commercial vessel traffic transiting to several oil facilities located upstream from the bridge. The oil facilities and the shipping pilots were notified. No objections were received.

Under this temporary deviation, the Chelsea Street Bridge shall open on signal after at least a two-hour advance notice is given by calling the bridge on VHF channel 13 or by telephone at 617-635-7636, between 3:30 p.m. and 7 a.m., from January 2, 2008 through January 8, 2008. Vessels that can pass under the bridge without a bridge opening may do so at all times.

This deviation from the operating regulations is authorized under 33 CFR 117.35.

Dated: December 27, 2007.
Gary Kassof,
Bridge Program Manager, First Coast Guard District.

[FR Doc. E8-105 Filed 1-7-08; 8:45 am]

BILLING CODE 4910-15-P